Notice of March 3, 2016

Continuation of the National Emergency With Respect to Venezuela

On March 8, 2015, I issued Executive Order 13692, declaring a national emergency with respect to the situation in Venezuela, including the Government of Venezuela's erosion of human rights guarantees, persecution of political opponents, curtailment of press freedoms, use of violence and human rights violations and abuses in response to antigovernment protests, and arbitrary arrest and detention of antigovernment protestors, as well as the exacerbating presence of significant government corruption. The situation described in Executive Order 13692 has not improved. Therefore, in accordance with section 202(d) of the National Emergencies Act (50 U.S.C. 1622(d)), I am continuing for 1 year the national emergency declared in Executive Order 13692.

This notice shall be published in the Federal Register and transmitted to the Congress.

THE WHITE HOUSE,

March 3, 2016.

[FR Doc. 2016-05234

Filed 3-4-16; 11:15 am]

Billing code 3295-F6-P